DEPARTMENT OF HEALTH AND HUMAN SERVICES

National Institutes of Health

National Institute of Mental Health; Amended Notice of Meeting

Notice is hereby given of a change in the meeting of the National Institute of Mental Health Special Emphasis Panel BRAIN K99, March 6, 2024, 11:00 a.m. to March 06, 2024, 6:30 p.m., National Institutes of Health, Neuroscience Center, 6001 Executive Boulevard, Rockville, MD 20852 which was published in the Federal Register on February 2, 2024, FR Doc. 2024-02045, 89 FR 7403.

The meeting date has changed from March 6, 2024, to March 15, 2024. The time of the meeting and the location remain the same. The meeting is closed to the public.

Dated: February 5, 2024.
Melanie J. Pantoja,
Program Analyst, Office of Federal Advisory Committee Policy.

[FR Doc. 2024-02652 Filed 2-8-24; 8:45 am]

BILLING CODE 4140-01-P